OFFICE OF PERSONNEL MANAGEMENT

5 CFR Part 870

RIN 3206-AM96

Federal Employees' Group Life Insurance Program: Options B and C; Correction

AGENCY: U.S. Office of Personnel Management.

ACTION: Final rule; correction.

SUMMARY: The U.S. Office of Personnel Management (OPM) published a document in the Federal Register on May 5, 2016 (81 FR 26997) to amend the Federal Employees' Group Life Insurance (FEGLI) regulation to provide a second reduction election opportunity for annuitants and compensationers enrolled in FEGLI Option B and Option C. This document makes a minor correction to that rule.

DATES: Effective June 29, 2016.

FOR FURTHER INFORMATION CONTACT: Ronald Brown, Policy Analyst, (202) 606-0004, or by email to Ronald.Brown@opm.gov.

SUPPLEMENTARY INFORMATION: We are correcting the final rule published May 5, 2016 (81 FR 26997). The final rule included a section entitled ADDRESSES. This section was included in error since the regulation is a final rule and OPM is not accepting further comments.

In rule FR Doc. 2016-10539 published on May 5, 2016 (81 FR 26997) make the following correction. On page 26997, in the first column, remove the ADDRESSES section.

U.S. Office of Personnel Management.
Jonathan Foley,
Director, Planning and Policy Analysis.

[FR Doc. 2016-15261 Filed 6-28-16; 8:45 am]

BILLING CODE 6325-63-P